DEPARTMENT OF THE INTERIOR

Fish and Wildlife Service

[FWS-R4-R-2008-N0246; 40136-1265-0000-S3]

Eufaula National Wildlife Refuge, Barbour and Russell Counties, AL and Stewart and Quitman Counties, GA

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for Eufaula National Wildlife Refuge (NWR). In the final CCP, we describe how we will manage this refuge for the next 15 years.

ADDRESSES: A copy of the CCP may be obtained by writing to: Mr. Troy Littrell, Refuge Manager, 367 Highway 165, Eufaula, AL 39027-8187. The CCP may also be accessed and downloaded from the Service's Web site: http://southeast.fws.gov/planning.

FOR FURTHER INFORMATION CONTACT: Mr. Mike Dawson, Refuge Planner, Jackson, MS; Telephone: 601-965-4903 ext. 20; fax: 601-965-4010; e-mail: mike_dawson@fws.gov.

SUPPLEMENTARY INFORMATION:

Introduction

With this notice, we finalize the CCP process for Eufaula NWR. We started this process through a notice in the Federal Register on January 26, 2006 (71 FR 4373). For more about the process, see that notice.

Eufaula NWR was established in 1964 through community support and in cooperation with the U.S. Army Corps of Engineers to provide habitat for wintering waterfowl and other migratory and resident wildlife. The refuge landscape is a mixture of wetlands, croplands, woodlands, grasslands, and open water, creating a mosaic of wildlife-rich habitats.

Eufaula NWR is located on both banks of the Chattahoochee River in southeast Alabama and southwest Georgia. The refuge is superimposed on the Walter F. George Reservoir (also referred to as Lake Eufaula), a river and harbor project of the U.S. Army Corps of Engineers. The reservoir was created from the impoundment of the Chattahoochee River between Alabama and Georgia. Named after the city of Eufaula, the refuge provides 11,184 acres of land and water for public enjoyment in a wide range of outdoor activities. The refuge covers 7,953 acres in Barbour and Russell Counties, Alabama, and 3,231 acres in Stewart and Quitman Counties, Georgia.

Habitats encompassed by the refuge include a riverine area on the west side containing a section of the Escatawpa River and a tributary, Black Creek; an area of coastal savanna in the central part of the refuge; and a large gopher tortoise colony at the northeast corner of the refuge.

Eufaula NWR lies on the eastern edge of the Mississippi Flyway. Peak wintering populations of ducks reached over 40,000 in the mid-1970s. Recently, the refuge's duck populations have peaked at 12,000-20,000. Few migratory geese visit Eufaula NWR, but more than 2,000 Canada geese are residents. Large breeding populations of raptors, such as bald eagles and osprey, are becoming more common on the refuge. High populations of herons and other marsh birds are supported by the habitat. An abundance of other migratory birds and wildlife is present seasonally.

Eufaula NWR is a significant component in the region's recreational opportunities. The refuge's Management Information System (RMIS) showed 371,251 visits to the refuge in 2002. Fishing and nature observation were the most popular activities with 129,959 and 101,190 visits, respectively. Deer hunters accounted for 8,700 visits in 2002. The auto tour route attracted 35,974 motorists, and a small proportion of these people walked the nature trails or used the observation platform. The local economy significantly benefits from the refuge. In 2002, refuge visitors spent $7 million related to refuge recreation. This resulted in $5.6 million in local final demand, $2.4 million in earnings, and 125 jobs attributable to refuge visitation.

We announce our decision and the availability of the final CCP and FONSI for Eufaula NWR in accordance with the National Environmental Policy Act (NEPA) [40 CFR 1506.6(b)] requirements. We completed a thorough analysis of impacts on the human environment, which we included in the draft comprehensive conservation plan and environmental assessment (Draft CCP/EA).

The CCP will guide us in managing and administering Eufaula NWR for the next 15 years. Alternative D, as we described in the final CCP, is the foundation for the CCP.

The compatibility determinations for (1) hunting; (2) fishing; (3) wildlife observation and photography; (4) environmental education and interpretation; (5) bicycling; (6) canoeing; (7) farming/haying; (8) feral hog management program; (9) forest management; (10) horseback riding; (11) jogging/walking; and (12) scientific field studies are also available within the final CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 100 copies of the Draft CCP/EA were made available for a 30-day public review period as announced in the Federal Register on June 6, 2008 (73 FR 32349). Nineteen public comments were received.

Selected Alternative

After considering the comments we received, we have selected Alternative D for implementation. This alternative is judged to be the most effective management action for meeting the purposes of the refuge by optimizing habitat management and visitor services throughout the refuge. Over the life of the CCP, Eufaula NWR will provide a complex of habitats, both moist-soil and grain crops, to meet the foraging needs of 25,000 wintering ducks. This will assist the North American Waterfowl Management Plan. The refuge will also provide adequate open space (upland crop fields) for winter utilization and feeding of at least 500 geese and cranes. In addition, staff and/or volunteers will maintain 200 wood duck boxes on the refuge.

Under Alternative D, Eufaula NWR will provide forest habitat conditions conducive to supporting both priority pine and hardwood associated bird species. The refuge will provide high-quality grassland habitat to support grassland bird species on 220 to 300 acres, while achieving priority waterfowl objectives. This will include planting native warm season grass species on old farm fields. In addition, it will promote tall emergent vegetation sufficient to support a population of 10-20 king rails and to benefit other species of marsh birds.

For the benefit of wading birds, the refuge will provide for both secure nesting sites and ample foraging habitat. The refuge will furnish at least two areas of up to 20 acres each for shorebirds, during both northbound and southbound movements. In addition, the refuge will provide protective conservation measures for federal- or state-listed species and habitats for future ecological existence.

The refuge staff will expand its capability and effort to implement sound scientific principles to better manage healthy populations of resident wildlife species. The staff will also control domestic, feral, or pest animals, especially feral hogs, removing an average of 100-plus hogs annually, or as needed.

Eufaula NWR will gradually reduce cooperative farmer cropland acreage to 300 acres (from 500 acres at present) over the 15-year life of the CCP. Additionally, the refuge itself will cultivate crops on 100 to 300 acres to provide food, cover, and sanctuary areas for wildlife. This will provide adequate habitat for wintering waterfowl and provide quality dove hunting opportunities.

The refuge will employ silvicultural treatments to improve 2,800 acres of refuge forestland to provide benefits to forest-dependent wildlife. It will also use fire as a management tool on approximately 800-1,000 acres annually in suitable habitats for species and habitat conservation. Management of moist-soil wetlands (approximately 1,200 acres) will be intensified, with emphasis on waterfowl and other aquatic birds foraging and life-history requirements.

Eufaula NWR will aggressively control aquatic invasive plant species on approximately 25 shoreline miles (or as needed) and 1,250 acres annually. It will also conduct preventive and maintenance control of upland invasive plant species.

In addition to maintaining all existing hunts and seasons, Eufaula NWR will consider adding a youth wild turkey quota hunt, an alligator hunt, and falconry. Boat launch facilities and bank fishing opportunities on the refuge will be expanded. The refuge will document the impact of sport fishing and fishing tournaments on sensitive wildlife and habitat resources on the refuge. This will serve as a basis for discussions with the U.S. Army Corps of Engineers and Alabama and Georgia authorities on the possibility of establishing no-wake zones in sensitive areas.

All existing wildlife observation and photography facilities will be maintained, and within 10 years of the date of the CCP, the refuge will: (1) Designate a one-way loop in the Houston Bottoms and add additional pull-offs to the existing Wildlife Drive; (2) improve the existing interpretive trail and add foot trails between Lakepoint State Park and the refuge; (3) add one photo blind in the Houston Impoundment or Goose Pen Impoundment; and (4) construct an observation platform adjacent to the Hour Glass Impoundment on the Wildlife Drive and assess the need for an additional viewing platform in the Houston Bottoms area.

In terms of environmental education and interpretation, the refuge will maintain its existing opportunities and facilities, and establish a new visitor center.

Under Alternative D, the refuge will enlarge its current staff of six by adding five full-time positions, consisting of a biological science technician, a maintenance position, two non-law enforcement park rangers, and a law enforcement officer. The total staffing level will then be eleven.

Eufaula NWR will develop and begin to implement a Cultural Resources Management Plan. In the meantime, there will continue to be limited management of cultural resources based on known locations of identified cultural, historical, and archaeological resources. The refuge will follow standard procedures to protect cultural resources whenever projects involving excavation are undertaken.

Refuge staff will increase cooperation with the Corps and both states on invasives' management, and with Alabama and Georgia authorities on overall refuge management, including restoration of longleaf pine forests. The refuge will work to establish a Friends group (support group).

Under Alternative D, Eufaula NWR will construct and begin to operate a visitor center east of U.S. Highway 431, adjacent to the Kennedy Unit. This center will serve as a focal point of public use opportunities on the refuge.

Authority: This notice is published under the authority of the National Wildlife Refuge System Improvement Act of 1997, Public Law 105-57.

Dated: September 12, 2008.
Cynthia K. Dohner,
Acting Regional Director.

[FR Doc. E8-27450 Filed 11-18-08; 8:45 am]

BILLING CODE 4310-55-P